DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Health Care Research Training.

Date: October 14-15, 2010 (Open from 8 a.m. to 8:15 a.m. on October 14 and closed for remainder of the meeting).

Place: Marriott Gaithersburg Hotel, 9751 Washingtonian Boulevard, Conference Room TBD, Gaithersburg, MD 20878.

2. Name of Subcommittee: Health Systems Research.

Date: October 19-20, 2010 (Open from 8:30 a.m. to 8:45 a.m. on October 19 and closed for remainder of the meeting).

Place: Marriott Gaithersburg Hotel, 9751 Washingtonian Boulevard, Conference Room TBD, Gaithersburg, MD 20878.

3. Name of Subcommittee: Health Care Quality and Effectiveness Research.

Date: October 19-20, 2010 (Open from 8:30 a.m. to 8:45 a.m. on October 19 and closed for remainder of the meeting).

Place: Marriott Gaithersburg Hotel, 9751 Washingtonian Boulevard, Conference Room TBD, Gaithersburg, MD 20878.

4. Name of Subcommittee: Health Care Technology and Decision Sciences.

Date: October 27-28, 2010 (Open from 8:30 a.m. to 8:45 a.m. on October 27 and closed for remainder of the meeting).

Place: The Legacy Hotel & Meeting Centre, 1775 Rockville Pike, Conference Room TBD, Rockville, Maryland 20850.

Contact Person: Anyone wishing to obtain a roster of members, agenda or minutes of the nonconfidential portions of the meetings should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: September 7, 2010.
Carolyn M. Clancy,
Director.

[FR Doc. 2010-23112 Filed 9-15-10; 8:45 am]

BILLING CODE 4160-90-P